Executive Order 14300 of May 23, 2025

Ordering the Reform of the Nuclear Regulatory Commission

By the authority vested in me as President by the Constitution and the laws of the United States of America, it is hereby ordered:

Section 1. Purpose. Abundant energy is a vital national- and economic-security interest. In conjunction with domestic fossil fuel production, nuclear energy can liberate America from dependence on geopolitical rivals. It can power not only traditional manufacturing industries but also cutting-edge, energy-intensive industries such as artificial intelligence and quantum computing.

Between 1954 and 1978, the United States authorized the construction of 133 since-completed civilian nuclear reactors at 81 power plants. Since 1978, the Nuclear Regulatory Commission (NRC) has authorized only a fraction of that number; of these, only two reactors have entered into commercial operation. The NRC charges applicants by the hour to process license applications, with prolonged timelines that maximize fees while throttling nuclear power development. The NRC has failed to license new reactors even as technological advances promise to make nuclear power safer, cheaper, more adaptable, and more abundant than ever.

This failure stems from a fundamental error: Instead of efficiently promoting safe, abundant nuclear energy, the NRC has instead tried to insulate Americans from the most remote risks without appropriate regard for the severe domestic and geopolitical costs of such risk aversion. The NRC utilizes safety models that posit there is no safe threshold of radiation exposure and that harm is directly proportional to the amount of exposure. Those models lack sound scientific basis and produce irrational results, such as requiring that nuclear plants protect against radiation below naturally occurring levels. A myopic policy of minimizing even trivial risks ignores the reality that substitute forms of energy production also carry risk, such as pollution with potentially deleterious health effects.

Recent events in Europe, such as the nationwide blackouts in Spain and Portugal, underscore the importance of my Administration's focus on dispatchable power generation—including nuclear power—over intermittent power. Beginning today, my Administration will reform the NRC, including its structure, personnel, regulations, and basic operations. In so doing, we will produce lasting American dominance in the global nuclear energy market, create tens of thousands of high-paying jobs, and generate American-led prosperity and resilience.

Sec. 2. Policy. It is the policy of the United States to:

(a) Reestablish the United States as the global leader in nuclear energy;

(b) Facilitate increased deployment of new nuclear reactor technologies, such as Generation III+ and IV reactors, modular reactors, and microreactors, including by lowering regulatory and cost barriers to entry;

(c) Facilitate the expansion of American nuclear energy capacity from approximately 100 GW in 2024 to 400 GW by 2050;

(d) Employ emerging technologies to safely accelerate the modeling, simulation, testing, and approval of new reactor designs;

(e) Support the continued operation of, and facilitate appropriate operational extensions for, the current nuclear fleet, as well as the reactivation of prematurely shuttered or partially completed nuclear facilities; and

(f) Maintain the United States' leading reputation for nuclear safety.

Sec. 3. Reforming the NRC's Culture. The Congress has mandated that the NRC's “licensing and regulation of the civilian use of radioactive materials and nuclear energy be conducted in a manner that is efficient and does not unnecessarily limit—(1) the civilian use of radioactive materials and deployment of nuclear energy; or (2) the benefits of civilian use of radioactive materials and nuclear energy technology to society.” Accelerating Deployment of Versatile, Advanced Nuclear for Clean Energy Act of 2024, Public Law 118-67, sec. 501(a). Just as the Congress directed, the NRC's mission shall include facilitating nuclear power while ensuring reactor safety. When carrying out its licensing and related regulatory functions, the NRC shall consider the benefits of increased availability of, and innovation in, nuclear power to our economic and national security in addition to safety, health, and environmental considerations.

Sec. 4. Reforming the NRC's Structure. (a) The current structure and staffing of the NRC are misaligned with the Congress's directive that the NRC shall not unduly restrict the benefits of nuclear power. The NRC shall, in consultation with the NRC's DOGE Team (as defined in Executive Order 14158 of January 20, 2025 (Establishing and Implementing the President's “Department of Government Efficiency”)), and consistent with its governing statutes, reorganize the NRC to promote the expeditious processing of license applications and the adoption of innovative technology. The NRC shall undertake reductions in force in conjunction with this reorganization, though certain functions may increase in size consistent with the policies in this order, including those devoted to new reactor licensing. The NRC shall also create a dedicated team of at least 20 officials to draft the new regulations directed by section 5 of this order.

(b) The personnel and functions of the Advisory Committee on Reactor Safeguards (ACRS) shall be reduced to the minimum necessary to fulfill ACRS's statutory obligations. Review by ACRS of permitting and licensing issues shall focus on issues that are truly novel or noteworthy.

Sec. 5. Reforming and Modernizing the NRC's Regulations. The NRC, working with its DOGE Team, the Office of Management and Budget, and other executive departments and agencies as appropriate, shall undertake a review and wholesale revision of its regulations and guidance documents, and issue notice(s) of proposed rulemaking effecting this revision within 9 months of the date of this order. The NRC shall issue final rules and guidance to conclude this revision process within 18 months of the date of this order. In conducting this wholesale revision, the NRC shall be guided by the policies set forth in section 2 of this order and shall in particular:

(a) Establish fixed deadlines for its evaluation and approval of licenses, license amendments, license renewals, certificates of compliance, power uprates, license transfers, and any other activity requested by a licensee or potential licensee, as directed under the Nuclear Energy Innovation and Modernization Act, rather than the nonbinding “generic milestone schedules” guidelines the NRC has already adopted. Those deadlines shall be enforced by fixed caps on the NRC's recovery of hourly fees. The deadlines shall include: (1) a deadline of no more than 18 months for final decision on an application to construct and operate a new reactor of any type, commencing with the first required step in the regulatory process, and (2) a deadline of no more than 1 year for final decision on an application to continue operating an existing reactor of any type, commencing with the first required step in the regulatory process. The regulations should not provide for tolling those deadlines except in instances of applicant failure, and must allow a reasonably diligent applicant to navigate the licensing process successfully in the time allotted. Moreover, these are maximum time periods; the NRC shall adopt shorter deadlines tailored to particular reactor types or licensing pathways as appropriate.

(b) Adopt science-based radiation limits. In particular, the NRC shall reconsider reliance on the linear no-threshold (LNT) model for radiation exposure and the “as low as reasonably achievable” standard, which is predicated on LNT. Those models are flawed, as discussed in section 1 of this order. In reconsidering those limits, the NRC shall specifically consider adopting determinate radiation limits, and in doing so shall consult with the Department of Defense (DOD), the Department of Energy (DOE), and the Environmental Protection Agency.

(c) Revise, in consultation with the Council on Environmental Quality, NRC regulations governing NRC's compliance with the National Environmental Policy Act to reflect the Congress's 2023 amendments to that statute and the policies articulated in sections 2 and 5 of Executive Order 14154 of January 20, 2025 (Unleashing American Energy).

(d) Establish an expedited pathway to approve reactor designs that the DOD or the DOE have tested and that have demonstrated the ability to function safely. NRC review of such designs shall focus solely on risks that may arise from new applications permitted by NRC licensure, rather than revisiting risks that have already been addressed in the DOE or DOD processes.

(e) Establish a process for high-volume licensing of microreactors and modular reactors, including by allowing for standardized applications and approvals and by considering to what extent such reactors or components thereof should be regulated through general licenses.

(f) Establish stringent thresholds for circumstances in which the NRC may demand changes to reactor design once construction is underway.

(g) Revise the Reactor Oversight Process and reactor security rules and requirements to reduce unnecessary burdens and be responsive to credible risks.

(h) Adopt revised and, where feasible, determinate and data-backed thresholds to ensure that reactor safety assessments focus on credible, realistic risks.

(i) Reconsider the regulations governing the time period for which a renewed license remains effective, and extend that period as appropriate based on available technological and safety data.

(j) Streamline the public hearings process.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Nuclear Regulatory Commission shall provide funding for publication of this order in the Federal Register.

THE WHITE HOUSE,

May 23, 2025.

[FR Doc. 2025-09798

Filed 5-28-25; 8:45 am]

Billing code 7590-01-P